DEPARTMENT OF ENERGY

Federal Energy Regulatory Commission

[Docket No. CP14-555-000]

Dominion Transmission, Inc.; Notice of Intent To Prepare an Environmental Assessment for the Proposed Lebanon West II Project and Request for Comments on Environmental Issues

The staff of the Federal Energy Regulatory Commission (FERC or Commission) will prepare an environmental assessment (EA) that will discuss the environmental impacts of the Lebanon West II Project (Project) involving construction, operation, and abandonment of facilities by Dominion Transmission, Inc. (DTI) in Armstrong, Allegheny, and Beaver Counties, Pennsylvania, and Licking, Fayette, Coshocton, Tuscarawas, Harrison, Carroll, and Columbiana Counties, Ohio. The Commission will use this EA in its decision-making process to determine whether the project is in the public convenience and necessity.

This notice announces the opening of the scoping process the Commission will use to gather input from the public and interested agencies on the project. Your input will help the Commission staff determine what issues they need to evaluate in the EA. Please note that the scoping period will close on December 26, 2014.

This notice is being sent to the Commission's current environmental mailing list for this project. State and local government representatives should notify their constituents of this proposed project and encourage them to comment on their areas of concern.

If you are a landowner receiving this notice, a pipeline company representative may contact you about the acquisition of an easement to construct, operate, and maintain the proposed facilities. The company would seek to negotiate a mutually acceptable agreement. However, if the Commission approves the project, that approval conveys with it the right of eminent domain. Therefore, if easement negotiations fail to produce an agreement, the pipeline company could initiate condemnation proceedings where compensation would be determined in accordance with state law.

DTI provided landowners with a fact sheet prepared by the FERC entitled “An Interstate Natural Gas Facility On My Land? What Do I Need To Know?” This fact sheet addresses a number of typically-asked questions, including the use of eminent domain and how to participate in the Commission's proceedings. It is also available for viewing on the FERC Web site (www.ferc.gov).

Summary of the Proposed Project

DTI proposes to replace 11 segments of 26- and 30-inch-diameter pipeline and install compressor station facilities to transport 130,000 dekatherms per day on behalf of R. E. Gas Development, LLC from DTI's MarkWest Liberty Bluestone Interconnect in Butler County, Pennsylvania to DTI's Lebanon-Texas Gas Interconnect in Warren County, Ohio. DTI also proposes to increase the maximum allowable operating pressure of these pipeline segments from 745 pounds per square inch gauge (psig) to 848 psig.

The Project would consist of the following facilities:

1. Pipeline Facilities—DTI would undertake the following activities on its existing TL-400 Pipeline:

• Segment 14—abandon in-place about 2,647 feet, abandon by removal about 8,420 feet, and construct about 11,067 feet of 26-inch-diameter replacement pipeline in Coshocton and Tuscarawas Counties, Ohio.

• Segment 15—abandon in-place about 664 feet, abandon by removal about 1,434 feet, and construct about 2,098 feet of 26-inch-diameter replacement pipeline in Tuscarawas County.

• Segment 16—abandon in-place about 1,654 feet, abandon by removal about 4,159 feet, and construct about 5,813 feet of 30-inch-diameter replacement pipeline in Tuscarawas County.

• Segment 17—abandon in-place about 6,664 feet, abandon by removal about 3,418 feet, and construction of about 10,082 feet of 30-inch-diameter replacement pipeline in Harrison County, Ohio.

• Segment 19—abandon in-place about 1,805 feet, abandon by removal about 6,243 feet, and construct about 8,048 feet of 30-inch-diameter replacement pipeline in Carroll County.

• Segment 20—abandon in-place about 1,413 feet, abandon by removal about 3,708 feet, and construct about 5,121 feet of 30-inch-diameter replacement pipeline in Carroll County.

• Segment 21—abandon by removal about 1,709 feet, and construct about 1,709 feet of 30-inch-diameter replacement pipeline in Columbiana County, Ohio.

• Segment 22—abandon in-place about 920 feet, abandon by removal about 3,277 feet, and construct about 4,197 feet of 30-inch-diameter replacement pipeline in Columbiana County.

• Segment 24—abandon in-place about 897 feet, abandon by removal about 2,714 feet, and construct about 3,611 feet of 30-inch-diameter replacement pipeline in Columbiana County.

• Segment 25—abandon in-place about 151 feet, abandon by removal about 951 feet, and construct about 1,102 feet of 30-inch-diameter replacement pipeline in Columbiana County.

• Segment 27—abandon by removal about 986 feet, and construct about 986 feet of 30-inch-diameter replacement pipeline in Beaver County, Pennsylvania.

2. Aboveground Facilities—DTI proposes to undertake the following activities on its existing facilities as described below:

• Rural Valley Compressor Station—Install a new 10,915-horsepower Solar Taurus 70S combustion turbine and a 3.5 million British thermal units per hour (MMBtu/hr) boiler that would replace an existing 2.1 MMBtu/hr boiler at the Rural Valley Compressor Station, in Armstrong County, Pennsylvania. In addition, DTI would install one new gas cooler, one new filter separator, a blowdown separator/silencer, new suction/discharge tie-ins, and expand the existing compressor building to accommodate the new compressor unit.

• Newark Compressor Station—Install additional regulation at the existing Newark Compressor Station in Licking County, Ohio to reduce the pressure in the TL-400 Pipeline as the gas flows west from the compressor station.

• Beaver Compressor Station—Install additional regulation at the existing Beaver Compressor Station in Beaver County, Pennsylvania to allow additional gas to flow from the TL-400 Extension 1 Pipeline into the TL-400 Pipeline.

• Washington Compressor Station—Install four new valves and 30-inch diameter steel crossover piping at the existing Washington Compressor Station in Fayette County, Ohio.

• Coxcomb Gate Assembly—Install a new relief valve on the existing LN-25 Pipeline at the existing Coxcomb Gate Site in Allegheny County, Pennsylvania.

The general location of the project facilities is shown in appendix 1.¹

¹ The appendices referenced in this notice will not appear in the Federal Register. Copies of appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Construction

DTI's replacement activities would disturb a total of about 196.4 acres, including 128.6 acres for abandonment of existing pipeline segments and installation of new pipeline, 10.9 acres for 63 additional temporary work spaces, 14.6 acres for use of 28 access roads, 18.7 acres for 10 pipe storage and contractor yards, and 23.6 acres for installation of aboveground facilities. Following construction DTI would maintain a total of about 109.4 acres for permanent operation of the projects facilities, and the remaining acreage would be restored and revert to former uses.

The EA Process

The National Environmental Policy Act (NEPA) requires the Commission to take into account the environmental impacts that could result from an action whenever it considers the issuance of a Certificate of Public Convenience and Necessity. NEPA also requires us ² to discover and address concerns the public may have about proposals. This process is referred to as “scoping.” The main goal of the scoping process is to focus the analysis in the EA on the important environmental issues. By this notice, the Commission requests public comments on the scope of the issues to address in the EA. We will consider all filed comments during the preparation of the EA.

² “We,” “us,” and “our” refer to the environmental staff of the Commission's Office of Energy Projects.

In the EA we will discuss impacts that could occur as a result of the construction and operation of the proposed project under these general headings:

• Geology and soils;

• land use;

• water resources, fisheries, and wetlands;

• cultural resources;

• vegetation and wildlife;

• air quality and noise;

• endangered and threatened species;

• public safety; and

• cumulative impacts.

We will also evaluate reasonable alternatives to the proposed project or portions of the project, and make recommendations on how to lessen or avoid impacts on the various resource areas.

The EA will present our independent analysis of the issues. The EA will be available in the public record through eLibrary. Depending on the comments received during the scoping process, we may also publish and distribute the EA to the public for an allotted comment period. We will consider all comments on the EA before making our recommendations to the Commission. To ensure we have the opportunity to consider and address your comments, please carefully follow the instructions in the Public Participation section beginning on page 6.

With this notice, we are asking agencies with jurisdiction by law and/or special expertise with respect to the environmental issues of this project to formally cooperate with us in the preparation of the EA.³ Agencies that would like to request cooperating agency status should follow the instructions for filing comments provided under the Public Participation section of this notice.

³ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, we are using this notice to initiate consultation with the applicable State Historic Preservation Offices (SHPOs), and to solicit their views and those of other government agencies, interested Indian tribes, and the public on the project's potential effects on historic properties.⁴

⁴ The Advisory Council on Historic Preservation's regulations are at Title 36, Code of Federal Regulations, Part 800. Those regulations define historic properties as any prehistoric or historic district, site, building, structure, or object included in or eligible for inclusion in the National Register of Historic Places.

We will define the project-specific Area of Potential Effects (APE) in consultation with the SHPOs as the project develops. On natural gas facility projects, the APE at a minimum encompasses all areas subject to ground disturbance (examples include construction right-of-way, contractor/pipe storage yards, compressor stations, and access roads). Our EA for this project will document our findings on the impacts on historic properties and summarize the status of consultations under section 106.

Currently Identified Environmental Issues

We have already identified several issues that we think deserve attention based on a preliminary review of the proposed facilities and the environmental information provided by DTI. This preliminary list of issues may be changed based on your comments and our analysis.

• Impacts on federally listed threatened and endangered species

• impacts on wetlands

• impacts on perennial waterbodies

Public Participation

You can make a difference by providing us with your specific comments or concerns about the project. Your comments should focus on the potential environmental effects, reasonable alternatives, and measures to avoid or lessen environmental impacts. The more specific your comments, the more useful they will be. To ensure that your comments are timely and properly recorded, please send your comments so that the Commission receives them in Washington, DC on or before December 26, 2014.

For your convenience, there are three methods which you can use to submit your comments to the Commission. In all instances please reference the project docket number (CP14-555-000) with your submission. The Commission encourages electronic filing of comments and has expert staff available to assist you at (202) 502-8258 or efiling@ferc.gov.

(1) You can file your comments electronically using the eComment feature on the Commission's Web site (www.ferc.gov) under the link to Documents and Filings. This is an easy method for interested persons to submit brief, text-only comments on a project;

(2) You can file your comments electronically using the eFiling feature on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the proposed project.

If we publish and distribute the EA, copies will be sent to the environmental mailing list for public review and comment. If you would prefer to receive a paper copy of the document instead of the CD version or would like to remove your name from the mailing list, please return the attached Information Request (appendix 2).

Becoming an Intervenor

In addition to involvement in the EA scoping process, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site.

Additional Information

Additional information about the project is available from the Commission's Office of External Affairs, at (866) 208-FERC, or on the FERC Web site at www.ferc.gov using the “eLibrary” link. Click on the eLibrary link, click on “General Search” and enter the docket number, excluding the last three digits in the Docket Number field (i.e., CP14-555). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: November 25, 2014.
Kimberly D. Bose,
Secretary.

[FR Doc. 2014-28490 Filed 12-3-14; 8:45 am]

BILLING CODE 6717-01-P